FEDERAL COMMUNICATIONS COMMISSION

Public Information Collection Requirement Submitted to OMB for Review and Approval; Comments Requested

April 23, 2008.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 28, 2008. If you anticipate that you will be submitting comments, but find it difficult to do so within the period of time allowed by this notice, you should advise the contacts listed below as soon as possible.

ADDRESSES: Direct all PRA comments to Nicholas A. Fraser, Office of Management and Budget, via Internet at Nicholas_A._Fraser@omb.eop.gov or via fax at (202) 395-5167 and to Cathy Williams, Federal Communications Commission, Room 1-C823, 445 12th Street, SW., Washington, DC or via Internet at Cathy.Williams@fcc.gov or PRA@fcc.gov.

To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the title of this ICR (or its OMB control number, if there is one) and then click on the ICR Reference Number to view detailed information about this ICR.

FOR FURTHER INFORMATION CONTACT: For additional information or copies of the information collection(s), contact Cathy Williams at (202) 418-2918.

SUPPLEMENTARY INFORMATION:

OMB Number: 3060-0568.

Title: Commercial Leased Access.

Form Number: Not applicable.

Type of Review: Revision of a currently approved collection.

Respondents: Business or other for-profit entities, Not-for-profit institutions.

Number of Respondents/Responses: 7,365 respondents; 152,315 responses.

Estimated Time per Response: 0.50 hours to 45 hours.

Frequency of Response: Annual reporting requirement; On occasion reporting requirement; Recordkeeping requirement; Third party disclosure requirement.

Total Annual Burden: 173,610.

Total Annual Cost: $105,000.

Nature of Response: Required to obtain or retain benefits. The statutory authority for this information collection is contained in Section 154(i) and 612 of the Communications Act of 1934, as amended.

Confidentiality: No need for confidentiality required.

Privacy Impact Assessment: No impact(s).

Needs and Uses: On February 1, 2008, the Commission released a Report and Order and Further Notice of Proposed Rulemaking, In the Matter of Leased Commercial Access, MB Docket No. 07-42, FCC 07-208. In this Report and Order, we modify the leased access rules. With respect to leased access, we modify the leased access rate formula; adopt customer service obligations that require minimal standards and equal treatment of leased access programmers with other programmers; eliminate the requirement for an independent accountant to review leased access rates; and require annual reporting of information on leased access. We also adopt expedited time frames for resolution of complaints and improve the discovery process. The commercial leased access requirements are set forth in Section 612 of the Communications Act of 1934, as amended. The statute and corresponding leased access rules require a cable operator to set aside channel capacity for commercial use by unaffiliated video programmers. The Commission's rules implementing the statute require that cable operators with 36 or more channels calculate rates for leased access channels, maintain and provide on request information pertaining to leased access channels, and provide billing and collection services as required. The Commission may be required to resolve complaints about rates, terms and conditions of leased access. Changes to the rules increased the quantity of information maintained and provided, increase the information needed to calculate rates and require the filing of an annual report with the Commission on the status of leased access channels.

In addition, the Commission is consolidating information collection OMB Control Number 3060-0569 (Commercial Leased Access Dispute Resolution) into this collection OMB Control Number 3060-0568.

Federal Communications Commission.
Jackie Coles,
Associate Secretary.

[FR Doc. E8-9233 Filed 4-25-08; 8:45 am]

BILLING CODE 6712-01-P